DEPARTMENT OF COMMERCE

National Oceanic and Atmospheric Administration

[RTID 0648-XC884]

South Atlantic Fishery Management Council; Public Meeting

AGENCY: National Marine Fisheries Service (NMFS), National Oceanic and Atmospheric Administration (NOAA), Commerce.

ACTION: Notice of public meeting.

SUMMARY: The South Atlantic Fishery Management Council's (Council) will hold a meeting of the Snapper Grouper Advisory Panel (AP) April 25-27, 2023 and a public scoping session on April 26, 2023, in North Charleston, SC.

DATES: The Snapper Grouper AP will meet from 1 p.m. until 5 p.m. on April 25, 2023, from 8:30 a.m. until 5 p.m. on April 26, 2023 and 8:30 a.m. until 12 p.m. on April 27, 2023. A public scoping session will be held, beginning at 6 p.m. on April 26, 2023.

ADDRESSES: Meeting address: Hilton Garden Inn Charleston Airport; 5265 International Blvd., North Charleston, SC 29418; phone: (843) 308-9330.

FOR FURTHER INFORMATION CONTACT: Kim Iverson, Public Information Officer, SAFMC; phone: (843) 571-4366 or toll free: (866) SAFMC-10; fax: (843) 769-4520; email: kim.iverson@safmc.net.

SUPPLEMENTARY INFORMATION: Meeting information, including the agenda, overview, briefing book materials, and an online public comment form will be posted on the Council's website at: https://safmc.net/advisory-council-meetings/ two weeks prior to the meeting. The meeting is open to the public and available via webinar as it occurs. The webinar registration link will be available from the Council's website. Public comment will also be taken during the meeting.

The agenda for the Snapper Grouper AP includes: updating the red grouper fishery performance report; updates and discussions of issues pertaining to Amendment 46 to the Snapper Grouper Fishery Management Plan (Recreational Permitting), Snapper Grouper Amendment 48 (Wreckfish), and Snapper Grouper Amendment 44 (Yellowtail Snapper); providing input for a Management Strategy Evaluation (MSE) for the snapper grouper fishery; discussing management implications of the most recent stock assessment of scamp and yellowmouth grouper; discussing impacts of Kennedy Space Center operations on fishing activities; and reviewing the Council's research priorities.

AP members will also receive updates on additional ongoing amendments to the Snapper Grouper Fishery Management Plan and other Council programs and initiatives. The AP will provide input and recommendations on agenda items for the Council's consideration and address other items as needed.

The Council will also hold a public scoping session at 6 p.m. on Wednesday, April 26, to gather public input on management priorities and objectives that will guide the Snapper Grouper MSE.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: March 30, 2023.
Rey Israel Marquez,
Acting Deputy Director, Office of Sustainable Fisheries, National Marine Fisheries Service.

[FR Doc. 2023-06975 Filed 4-3-23; 8:45 am]

BILLING CODE 3510-22-P